DEPARTMENT OF STATE

22 CFR Part 62

[Public Notice: 10818]

RIN 1400-AF03

Change to Certification Authority for the Alien Physician Category of the Exchange Visitor Program

AGENCY: Department of State.

ACTION: Final rule.

SUMMARY: The Department of State (Department) is changing the certification authority for alien physicians from the American Board of Medical Specialties (ABMS) to the Accreditation Council for Graduate Medical Education (ACGME).

DATES: This rule is effective May 19, 2021.

FOR FURTHER INFORMATION CONTACT: G. Kevin Saba, Director, Office of Policy and Program Support, Office of Private Sector Exchange, Bureau of Educational and Cultural Affairs, U.S. Department of State, SA-4E, 2201 C Street NW, Washington, DC 20522; email at JExchanges@state.gov; or, (202) 634-4710.

SUPPLEMENTARY INFORMATION: In 22 CFR 62.27(e)(1) and (e)(4)(i), there is a reference to the “American Board of Medical Specialties” (ABMS). These provisions, last amended in 1993, state that ABMS will perform certain certification functions for the Secretary of State.

ABMS no longer produces the publication, Marquis Who's Who, referenced in 22 CFR part 62. Furthermore, ABMS has confirmed that it is also no longer the appropriate organization to comment on programs of graduate medical education. The Department has confirmed that the Accreditation Council for Graduate Medical Education (ACGME) has responsibility to accredit and recognize institutions offering programs of graduate medical education, and is replacing the reference to the ABMS with the ACGME in § 62.27.

Regulatory Analyses

The Department of State is publishing this rulemaking as a final rule, pursuant to 5 U.S.C. 553(b). This rulemaking is a rule of agency organization, procedure, or practice. The effective date of the rule is 30 days after publication, as provided in the Administrative Procedure Act.

The Department further finds that this is not a major rule; is not subject to the Unfunded Mandates Reform Act of 1995; will not have tribal implications as defined by Executive Order 13175; and will not have an impact on a substantial number of small entities under the Regulatory Flexibility Act. This rule is not an economically significant rule under Executive Order 12866, and the Department certifies that the benefits of this rulemaking outweigh any costs, which are minimal for the public. The Office of Information and Regulatory Affairs designated this rule as “non-significant,” as defined by Executive Order 12866.

The Department of State has reviewed this rule in light of Executive Order 12988 to eliminate ambiguity, minimize litigation, establish clear legal standards, and reduce burden. This rule will not have substantial direct effect on the states, on the relationships between the National Government and the states, or on the distribution of power and responsibilities among the various levels of government. Therefore, in accordance with Executive Order 13132, it is determined that this rule does not have sufficient federalism implications to require consultations or warrant the preparation of a federalism summary impact statement.

This rulemaking does not create or modify any collections of information subject to the Paperwork Reduction Act.

List of Subjects in 22 CFR Part 62

Cultural exchange programs, Reporting and recordkeeping requirements.

For the reasons set forth above, the Department of State amends part 62 of title 22 of the Code of Federal Regulations as follows:

PART 62—EXCHANGE VISITOR PROGRAM

1. The authority citation for part 62 is revised to read as follows:

Authority: 8 U.S.C. 1101(a)(15)(J), 1182, 1184, 1258; 22 U.S.C. 1431 et seq.; 22 U.S.C. 2451 et seq.; 22 U.S.C. 2651a; 22 U.S.C. 6531-6553; Reorganization Plan No. 2 of 1977, 42 FR 62461, 3 CFR, 1977 Comp. p. 200; E.O. 12048, 43 FR 13361, 3 CFR, 1978 Comp., p. 168; 8 U.S.C. 1372; section 416 of Pub. L. 107-56, 115 Stat. 354 (8 U.S.C. 1372 note); and 8 U.S.C. 1761-1762.

2. Section 62.27(e)(1) and (e)(4)(i) are revised to read as follows:

§ 62.27 Alien physicians.

* * * * *

(e) * * *

(1) The duration of an alien physician's participation in a program of graduate medical education or training as described in paragraph (b) of this section is limited to the time typically required to complete such program. Duration shall be determined by the Secretary of State at the time of the alien physician's entry into the United States. Such determination shall be based on criteria established in coordination with the Secretary of Health and Human Services and which take into consideration the requirements of the various medical specialty boards as set forth by the Accreditation Council for Graduate Medical Education (ACGME).

* * * * *

(4) * * *

(i) Alien physicians shall be permitted to undertake graduate medical education or training in a specialty or subspecialty program whose board and/or accreditation requirements are not published if the program requirements are certified to the Secretary of State by the ACGME in accordance with criteria established by the Educational Commission for Foreign Medical Graduates (ECFMG) and ACGME.

* * * * *

Zachary A. Parker,
Director, Office of Directives Management, Department of State.

[FR Doc. 2021-07537 Filed 4-16-21; 8:45 am]

BILLING CODE 4710-05-P